DEPARTMENT OF EDUCATION

Privacy Act of 1974; Computer Matching Program

AGENCY: Department of Education.

ACTION: Notice of computer matching program between the U.S. Department of Education (ED) and the Department of Health and Human Services (HHS), Administration for Children and Families (ACF), Office of Child Support Enforcement (OCSE).

SUMMARY: Pursuant to the Computer Matching and Privacy Protection Act of 1988 and the Office of Management and Budget (OMB) Guidelines on the Conduct of Matching Programs, this document gives notice of a computer matching program between ED and HHS.

Background: This computer matching program between the two agencies will become effective, as indicated in paragraph six of this notice. In accordance with the Privacy Act of 1974 (5 U.S.C. 552a), as amended by the Computer Matching and Privacy Protection Act of 1988 (Pub. L. 100-503), the Office of Management and Budget (OMB) Final Guidelines on the Conduct of Matching Programs (see 54 FR 25818, June 19, 1989), and OMB Circular A-130, we provide the following information:

1. Participating Agencies. U.S. Department of Education (ED), recipient agency. Department of Health and Human Services (HHS), Administration for Children and Families (ACF), Office of Child Support Enforcement (OCSE), source agency.

2. Purpose of Match. The purpose of the match is to obtain address information on individuals who owe funds to the Federal government for defaulted student loans or grant overpayments. ED will use this information to initiate independent collection of these debts under the provisions of the Debt Collection Act of 1982 when voluntary payment is not forthcoming. For individuals whose annual wage level exceeds $16,000, these collection efforts will include orders by ED or a guaranty agency to the employing entity, pursuant to statutory, non-judicial, administrative wage garnishment authority, to withhold a portion of the disposable pay of the debtor until such time as the obligation is paid in full.

3. Authority for Conducting the Match. The legal authority for conducting this match is contained in the Social Security Act (42 U.S.C. 653(j)(6)), as amended (Pub. L. 106-113).

4. Records and Individuals Covered by the Match. The systems of records maintained by the respective agencies under the Privacy Act of 1974, as amended, 5 U.S.C. 552a, from which records will be disclosed for the purpose of this computer match are as follows: ED: 18-11-07, Student Financial Assistance Collection Files, 64 FR 30166-30169 (June 4, 1999), as amended, 64 FR 72407 (December 27, 1999). OCSE: 09-90-0074, Location and Collection System, 65 FR 57817 (September 26, 2000).

5. Description of Computer Matching Program. ED administers student financial assistance programs under the Higher Education Act of 1965 (HEA). OCSE maintains a database that consists of three separate components. The first component, the W4 table, contains all newly hired employees as reported from the State Directory of New Hires (SDNH) and directly from Federal agencies. Component two, the QW table, contains quarterly wage information on individual employees, as received from Federal agencies and States. The final component, the UI table, contains, unemployment insurance information of individuals who have received, or made application for, unemployment benefits, as reported by State Employment Security Agency or other State agencies responsible for the implementation of the Unemployment Insurance Program.

This matching agreement between ED and OCSE will assist ED in locating and collecting funds from delinquent debtors. The identifying elements that the two agencies will match are as follows:

ED: Name and Social Security Number (SSN) of delinquent debtors.

OCSE: Name and SSN of all newly hired employees and individuals who have received, or made application for, unemployment benefits.

OCSE will perform the computer match using all nine digits of the SSN of the ED file against the OCSE computer database. OCSE will produce a file containing the name, SSN, current home address, employer and employer's address for each individual identified, based on the match. The file of matches will be returned to ED.

ED is responsible for verifying and determining that the data on the NDNH reply file is consistent with ED's source file and for resolving any discrepancies or inconsistencies on an individual basis. ED will also be responsible for making final determinations as to positive identification, amount of indebtedness and recovery efforts, as a result of the match.

6. Inclusive Dates of the Matching Program. The matching program will become effective at the latest of the following three dates: (1) 40 days after the signing of the transmittal letters sending the computer matching program report to Congress and OMB, unless OMB disapproves the agreement within the 40 day review period or grants a waiver of the review period for compelling reasons; (2) 30 days after publication of this notice in the Federal Register; or (3) July 22, 2003. The matching program will continue for 18 months after the effective date and may be extended for an additional 12 months thereafter, if the conditions specified in 5 U.S.C. 552a(o)(2)(D) have been met.

7. Address for Receipt of Comments or Inquiries. If you wish to comment on this matching program or obtain additional information about the program including a copy of the computer matching agreement between ED and OCSE, contact Marian E. Currie, U.S. Department of Education, 400 Maryland Avenue, SW., Union Center Plaza, Room 41B4, Washington, DC 20202-5320, telephone: (202) 377-3212; or, as a secondary contact: Adara L. Walton, 400 Maryland Avenue, SW., Union Center Plaza, Room 44E3, Washington, DC 20202-5320, telephone: (202) 377-3236. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: http://www.ed.gov/legislation/FedRegister.

To use PDF you must have the Adobe Acrobat Reader, which is available free at this site. If you have questions about using PDF, call the U.S. Government Printing Office (GPO), toll free, at 1-888-293-6498; or in the Washington, DC, area at (202) 512-1530.

You may also view this document in text or PDF at the following site: http://ifap.ed.gov/csb_html/fedlreg.htm.

Note: The official version of this document is the document published in the Federal Register. Free Internet access to the official edition of the Federal Register and the Code of Federal Regulations is available on GPO Access at: http://www.access.gpo.gov/nara/index.html.

Authority: (5 U.S.C. 5514(a); 5 U.S.C. 552a).

Dated: August 27, 2003.
Theresa S. Shaw,
Chief Operating Officer, Federal Student Aid.

[FR Doc. 03-22452 Filed 9-2-03; 8:45 am]

BILLING CODE 4000-01-P